DEPARTMENT OF THE TREASURY

Office of the Undersecretary for Domestic Finance; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Office of the Under Secretary for Domestic Finance of the Department of the Treasury is soliciting comments concerning requirements for merchant banking investments authorized pursuant to the Gramm-Leach-Bliley Act, Public Law 106-102, 113 Stat. 1338 (GLBA).

DATES: Written comments should be received on or before February 25, 2005, to be assured of consideration.

ADDRESSES: Direct all written comments to OMB, Attention: Desk Officer for the Department of the Treasury, Office of Information and Regulatory Affairs, Washington, DC 20503.

FOR FURTHER INFORMATION CONTACT: Mario Ugoletti, Director, Office of Financial Institutions Policy (202) 622-0715, or Gary W. Sutton, Senior Banking Counsel, (202) 622-1976.

SUPPLEMENTARY INFORMATION: Title: Merchant banking investments permitted under 12 U.S.C. 1843(k)(4)(H).

OMB Number: 1505-0182.

CFR Cite: 12 CFR 1500.

Abstract: Section 103 of the GLBA amended the Bank Holding Company Act to authorize financial holding companies to make merchant banking investments. The Board of Governors of the Federal Reserve System and the Secretary of the Treasury have jointly issued a final rule governing these investments, including recordkeeping and reporting requirements.

Current Actions: Financial holding companies conducting merchant banking investments maintain records and file reports pursuant to the joint final rule.

Type of Review: Extension.

Affected Public: Financial holding companies.

Estimated Number of Respondents: 450.

Estimated Time Per Respondent: 50 hours.

Estimated Total Annual Burden Hours: 22,500 hours.

Request for Comments:

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: December 16, 2004.
Lois K. Holland,
Treasury PRA Clearance Officer.

[FR Doc. 04-28211 Filed 12-23-04; 8:45 am]

BILLING CODE 4810-25-P